DEPARTMENT OF ENERGY

Agency Information Collection Extension

AGENCY: U.S. Department of Energy.

ACTION: Notice of request for comments.

SUMMARY: The Department of Energy (DOE) invites public comment on a proposed collection of information that DOE is developing for submission to the Office of Management and Budget (OMB) pursuant to the Paperwork Reduction Act of 1995.

DATES: Comments regarding this proposed information collection must be received on or before March 1, 2024. If you anticipate that you will be submitting comments but find it difficult to do so within the period of time allowed by this notice, please advise the DOE Desk Officer at OMB of your intention to make a submission as soon as possible. The Desk Officer may be telephoned at (202) 395-4718.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Aisha Miranda Rivera, Department of Energy, Grid Deployment Office, 1000 Independence Avenue SW, Suite 4H-065, Washington, DC 20585; (240) 429-5213; aisha.miranda-rivera@hq.doe.gov.

SUPPLEMENTARY INFORMATION: Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-5200;

(2) Information Collection Request Titled: Puerto Rico Energy Resiliency Fund (PR-ERF), Household Intake Form;

(3) Type of Review: Revision of a currently approved collection.

(4) Purpose: To authorize the use of the `Household Intake Form' to collect homeowner data necessary to qualify households as eligible to receive rooftop solar and battery storage installations as prescribed under the DOE Grid Deployment Office's (GDO) PR-ERF. Eligibility is limited to very low-income, single-family households that (1) reside in a Last Mile Community and/or (2) include an individual with an energy-dependent disability.

The PR-ERF, a $1 billion initiative authorized by Congress under the Consolidated Appropriations Act of 2023, Public Law 117-328, will incentivize the installation of rooftop solar and battery storage technologies for eligible households.

GDO plans to initiate installations of solar PV and battery storage systems before the 2024 hurricane season to address the harm and risk represented by the fragility of the islands' power system. Failure to collect the information necessary to verify eligibility in a timely manner will cause delays in providing assistance necessary to reestablish the reliability of electric service to these vulnerable residents. This narrow scope in purpose necessitates the need for a diligent verification process to demonstrate to Congress, Senior Leadership, and the public that this specific demographic has been served. GDO developed an in-person application process recognizing that the demographic served will lack access to broadband and have limited mobility but that it is essential to program operation to verify beneficiary eligibility for participation in the program.

(5) Annual Estimated Number of Respondents: 40,160;

(6) Annual Estimated Number of Total Responses: 80,000;

(7) Annual Estimated Number of Burden Hours: 56,800;

(8) Annual Estimated Reporting and Recordkeeping Cost Burden: $845,520;

Statutory Authority: The Consolidated Appropriations Act of 2023, Public Law 117-328, directs the Department of Energy to improve the resilience of the Puerto Rican electric grid, including grants for low-and-moderate-income households and households that include individuals with disabilities for the purchase and installation of renewable energy, energy storage, and other grid technologies.

Signing Authority

This document of the Department of Energy was signed on January 22, 2024, by Maria D. Robinson, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on January 26, 2024.
Treena V. Garrett,
Federal Register Liaison Officer, U.S. Department of Energy.

[FR Doc. 2024-01875 Filed 1-30-24; 8:45 am]

BILLING CODE 6450-01-P